DEPARTMENT OF COMMERCE

International Trade Administration

[A-421-807]

Certain Hot-Rolled Carbon Steel Flat Products from the Netherlands; Antidumping Duty Administrative Review; Extension of Time Limit

AGENCY: Import Administration, International Trade Administration, Department of Commerce.

SUMMARY: The Department of Commerce (the Department) is extending the time limit for the final results of the 2001-2002 administrative review of the antidumping duty order on certain hot-rolled carbon steel flat products from the Netherlands. This review covers one manufacturer/exporter of the subject merchandise to the United States and the period May 3, 2001 through October 31, 2002.

EFFECTIVE DATE: February 12, 2004.

FOR FURTHER INFORMATION CONTACT: Deborah Scott at (202) 482-2657 or Robert James at (202) 482-0649, Antidumping and Countervailing Duty Enforcement Group III, Office Eight, Import Administration, International Trade Administration, U.S. Department of Commerce, 14th Street and Constitution Avenue NW, Washington, DC 20230.

SUPPLEMENTARY INFORMATION: On December 8, 2003, we published the preliminary results of the administrative review of the antidumping duty order on certain hot-rolled carbon steel flat products from the Netherlands for the period May 3, 2001 through October 31, 2002. See Certain Hot-Rolled Carbon Steel Flat Products from the Netherlands; Preliminary Results of Antidumping Duty Administrative Review, 68 FR 68341 (December 8, 2003). Pursuant to the time limits for administrative reviews set forth in section 751(a)(3)(A) of the Tariff Act of 1930, as amended (the Tariff Act), currently the final results of this administrative review are due on April 6, 2004. The Department, however, may extend the deadline for completion of the final results of a review if it determines it is not practicable to complete the final results within the statutory time limit. See 751(a)(3)(A) of the Tariff Act and section 351.213(h)(2) of the Department's regulations. In this case the Department has determined it is not practicable to complete this review within the statutory time limit because of significant issues which require additional time to evaluate. These include: treatment of section 201 tariffs; treatment of entries made during the period October 30, 2001 through November 28, 2001 (“gap period”) in the margin calculation; and the calculation of various components of the cost of production (e.g., cost of manufacture and general and administrative expenses). Therefore, the Department is extending the time limit for completion of the final results until June 5, 2004 in accordance with section 751(a)(3)(A) of the Tariff Act.

Dated: February 5, 2004.
Barbara E. Tillman,
Acting Deputy Assistant Secretary for Import Administration, Group III.

[FR Doc. 04-3105 Filed 2-11-04; 8:45 am]

BILLING CODE 3510-DS-S